DEPARTMENT OF THE INTERIOR

Bureau of Land Management

[CO-500-0777-PB-252Z]

Front Range Resource Advisory Council (Colorado) Meeting

AGENCY: Bureau of Land Management, Interior.

ACTION: Notice of meeting.

SUMMARY: In accordance with the Federal Advisory Committee Act of 1972 (FACA),5 U.S.C. Appendix, notice is hereby given that the next two meetings of the Front Range Resource Advisory Council (Colorado) will be held on July 16, 17, 2002 and September 18, 2002 in Canon City, Colorado.

The meeting on July 16, 2002 is scheduled to begin at 10 a.m. and will be a Tour of the Gold Belt Travel Management Area which will begin and end at the Holy Cross Abbey Community Center, 2951 E. Highway 50, Canon City, Colorado. The meeting will continue the following day, July 17, 2002 at 9:15 a.m. and will also be at the Holy Cross Abbey Community Center, 2951 E. Highway 50, Canon City, Colorado. Topics will include discussion and updates on fire management, travel management and other current public land issues.

The meeting on September 18, 2002 will begin at 9:15 a.m. at the Holy Cross Abbey Community Center, 2951 E. Highway 50, Canon City, Colorado. Topics will include discussion of several public land management topics including Gold Belt Travel Management and RAC reports.

All Resource Advisory Council meetings are open to the public although the public may need to provide their own transportation for the Tour on July 16. Interested persons may make oral statements to the Council at 9:30 a.m. on July 17, 2002 and September 18, 2002 or written statements may be submitted for the Council's consideration. The Center Manager or Council Chair may limit the length of oral presentations depending on the number of people wishing to speak.

DATES: The two meetings are scheduled for Tuesday, July 16, 2002 from 10 a.m. to 4 p.m. and will continue Wednesday, July 17, 2002 from 9:15 a.m. to 4 p.m. and September 18, 2002 from 9:15 a.m. to 4 p.m.

ADDRESSES: Bureau of Land Management (BLM), Front Range Center Office, 3170 East Main Street, Canon City, Colorado 81212.

FOR FURTHER INFORMATION CONTACT: For further information contact Ken Smith at (719) 269-8500.

SUPPLEMENTARY INFORMATION: Summary minutes for the Council meeting will be maintained in the Front Range Center Office and will be available for public inspection and reproduction during regular business hours within thirty (30) days following the meeting.

Dated: May 2, 2002.
Roy L. Masinton,
Front Range Center Manager.

[FR Doc. 02-12581 Filed 5-17-02; 8:45 am]

BILLING CODE 4310-JB-P